DEPARTMENT OF COMMERCE

Foreign-Trade Zones Board

[Order No. 1203]

Approval of Manufacturing Authority; Foreign-Trade Zone 7, IPR Pharmaceuticals, Inc. (Pharmaceuticals), Mayaguez, Puerto Rico

Pursuant to its authority under the Foreign-Trade Zones Act of June 18, 1934, as amended (19 U.S.C. 81a-81u), the Foreign-Trade Zones Board (the Board) adopts the following Order:

Whereas, the Puerto Rico Industrial Development Corporation, grantee of Foreign-Trade Zone 7, on behalf of IPR Pharmaceuticals, Inc., has requested authority to manufacture pharmaceutical products under FTZ procedures within FTZ 7—Site L-164-0-63 (Doc. 39-2001);

Whereas, notice inviting public comment has been given in the Federal Register (66 FR 49162, 9/26/01);

Whereas, pursuant to section 400.32(b)(1) of the FTZ Board regulations (15 CFR 400), the Secretary of Commerce's delegate on the FTZ Board has the authority to act for the Board in making decisions regarding manufacturing activity within existing zones when the proposed activity is the same, in terms of products involved, to activity recently aproved by the Board and similar in circumstances (15 CFR 400.32(b)(1)(i)): and,

Whereas, the Board adopts the findings and recommendations of the examiner's report, and finds that the requirements of the FTZ Act and the Board's regulations are satisfied, and that approval of the request is in the public interest;

Now, Therefore, the Board hereby orders:

The application on behalf of IPR Pharmaceuticals, Inc., to manufacture pharmaceutical products under zone procedures within FTZ 7—Site L-164-0-63, is approved, subject to the FTZ Act and the Board's regulations, including Section 400.28.

Signed at Washington, DC, the 14th day of December 2001.
Faryar Shirzad,
Assistant Secretary of Commerce for Import Administration, Alternate Chairman, Foreign-Trade Zones Board.

[FR Doc. 01-31985 Filed 12-27-01; 8:45 am]

BILLING CODE 3510-05-M